DEPARTMENT OF EDUCATION

[Docket ID ED-2023-FSA-0109]

Privacy Act of 1974; System of Records

AGENCY: Federal Student Aid, U.S. Department of Education.

ACTION: Notice of a Modified System of Records.

SUMMARY: In accordance with the Privacy Act of 1974, as amended (Privacy Act), the U.S. Department of Education (Department) publishes this notice of a modified system of records entitled “Common Services for Borrowers (CSB)” (18-11-16). The information contained in this system is maintained for various purposes relating to aid applicants and recipients, cosigners, and endorsers of loan applications for Federal title IV, Higher Education Act of 1965, as amended (HEA) program funds.

DATES: Submit your comments on this modified system of records notice on or before August 28, 2023.

This modified system of records notice will become applicable upon publication in the Federal Register on July 27, 2023, unless it needs to be changed as a result of public comment, “CATEGORIES OF USERS AND PURPOSES OF SUCH USES,” which will become applicable on August 28, 2023, unless it needs to be changed as a result of public comment. The Department will publish any changes to the modified system of records notice resulting from public comment.

ADDRESSES: Comments must be submitted via the Federal eRulemaking Portal at regulations.gov. However, if you require an accommodation or cannot otherwise submit your comments via regulations.gov, please contact the program contact person listed under FOR FURTHER INFORMATION CONTACT. The Department will not accept comments submitted by fax or by email, or comments submitted after the comment period closes. To ensure that the Department does not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under the “FAQ” tab.

Privacy Note: The Department's policy is to make all comments received from members of the public available for public viewing in their entirety on the Federal eRulemaking Portal at www.regulations.gov. Therefore, commenters should be careful to include in their comments only information that they wish to make publicly available.

Assistance to Individuals With Disabilities in Reviewing the Rulemaking Record: On request, we will provide an appropriate accommodation or auxiliary aid to an individual with a disability who needs assistance to review the comments or other documents in the public rulemaking record for this notice. If you want to schedule an appointment for this type of accommodation or auxiliary aid, please contact the person listed under FOR FURTHER INFORMATION CONTACT.

FOR FURTHER INFORMATION CONTACT: Mark LaVia, Executive Director, Servicing, Student Experience and Aid Delivery, Federal Student Aid, U.S. Department of Education, 1300 Market St., 5th floor, Philadelphia, PA 19107. Telephone: 202-805-4376. Email: Mark.LaVia@ed.gov.

If you use a telecommunications device for the deaf (TDD) or a text telephone (TTY), you may call the Federal Relay Service (FRS), toll free, at 1-800-877-8339.

SUPPLEMENTARY INFORMATION: In accordance with the Privacy Act, the Department proposes to modify the system of records notice entitled “Common Services for Borrowers (CSB)” (18-11-16), which was last published in full in the Federal Register on September 13, 2022 (87 FR 56003).

The Department is modifying the section entitled “SYSTEM LOCATION” as follows:

(i) For Nelnet Servicing, LLC, clarifying that the backup site in Sioux Falls, SD is the system hosting backup site; separating the imaging center locations from the mail fulfillment locations; clarifying that the Lincoln, NE, location previously designated as a contact center location is the location of an imaging center; adding a new imaging center location in Madison, WI; deleting the contact center location in Aurora, CO, updating the addresses of the contact center locations in Lincoln, NE and Omaha, NE; and adding new contact center locations in Boscobel, WI, Brownsville, TX, Columbus, NE, Eau Claire, WI, Madison, WI, Sidney, NE, and Stevens Point, WI;

(ii) For Aidvantage, for the mail fulfillment and imaging centers, deleting the location in Wilkes-Barre, PA, and adding a new location in Greenville, TX; and for contact centers, deleting and replacing the locations in Fishers, IN, Wilkes-Barre, PA, and Muncie, IN, with a note explaining that Aidvantage employs a fully remote contact center model where Customer Service Representatives manage customer calls in a distributed environment utilizing secure internet connections and using centrally managed technology;

(iii) For the Missouri Higher Education Loan Authority, deleting the Boyers, PA, and Sterling Forest, NY, locations; and adding a new additional location in Washington, DC; and

(iv) Updating the name of the Department contractor “North Texas Higher Education Servicing Corp. (NFPHESC—EdFinancial)” to “EdFinancial;” and for EdFinancial; clarifying that the North Bellevue, NE location is the Nelnet system hosting site and that the Sioux Falls, SD location is the Nelnet system hosting backup site; and adding new FISERV system hosting and system hosting backup site locations in Omaha, NE, and Chandler, AZ, new mail fulfillment and imaging center locations in West Sacramento, CA, and North Monroe, NC, and new contact center locations in Montgomery, AL, and Concord, NH.

The Department is modifying the section entitled “PURPOSE(S) OF THE SYSTEM” to add new purpose (24) to determine whether an aid recipient who is applying for an income-driven repayment (IDR) plan or recertifying an IDR plan has provided consent/affirmative approval to redisclose Federal Tax Information (FTI) of such individuals pursuant to clause (iv) of section 6103(l)(13)(D) of the Internal Revenue Code (IRC) of 1986 and for the disclosure of records by the Department to the Internal Revenue Service (IRS) to obtain FTI and for the IRS to disclose FTI to the Department as referenced in Section 494(a) of the HEA (20 U.S.C. 1098h(a)) for the purpose of determining repayment obligation monthly amounts for an IDR plan under title IV of the HEA with respect to loans made under part D of title IV of the HEA (Direct Loan Program).

The Department is modifying the section entitled “CATEGORIES OF RECORDS IN THE SYSTEM” as follows:

(i) Adding a new “Note” section to explain that beginning with the 2024-2025 award year application cycle, the IRS will disclose FTI directly to the Department for use by the Department in processing the Free Application for Federal Student Aid (FAFSA®) and making aid eligibility determinations under a program authorized under subpart 1 of part A, part C, or part D of title IV of the HEA and that FTI will not be maintained in this system. All FTI that the Department will obtain directly from the IRS under the authority provided by the Fostering Undergraduate Talent by Unlocking Resources for Education (FUTURE) Act will be maintained within the FTI Module (FTIM) system that will be compliant with the IRS Publication 1075, “Tax Information Security Guidelines for Federal, State and Local Agencies, Safeguards for Protecting Federal Tax Returns and Return Information,” and that will be covered under the Department's system of records notice entitled “FUTURE Act System (FAS)” (18-11-23). This system will continue to maintain both historical and applicant-provided income information (either through a manual FAFSA entry or submission of alternative documentation of income (ADOI) through the IDR process). Any reference to income throughout this system of records notice refers to income information that the Department did not obtain directly from the IRS but obtained from the applicant or from another source; and

(ii) The third paragraph of this section is updated to include consent/affirmative approval to include permitting the Department to disclose records to the IRS to obtain FTI and to permit the disclosure and redisclosure of the FTI, monthly payment amounts, and ADOI.

The Department is modifying the section entitled “RECORD SOURCE CATEGORIES” to indicate that information is also obtained from other Department systems including the Common Origination and Disbursement (COD) system (covered by the Department's system of records notice entitled “Common Origination and Disbursement (COD) System” (18-11-02)) and the National Student Loan Data System (NSLDS) (covered by the Department's system of records notice entitled “National Student Loan Data System (NSLDS)” (18-11-06)) or any successor systems thereto.

The Department is modifying the section entitled “ADMINISTRATIVE, TECHNICAL, AND PHYSICAL SAFEGUARDS” to update paragraph four to remove the reference to the Department's Standard PR.AC: Password Parameters Policy and add the Department's Information Technology (IT) Identification and Authentication (IA) Standard; and to update the password change policy from 60-90 days to 90 days or based on the Zero Trust Strategy/Plan in accordance with the Department's IT IA standards.

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Richard Cordray,
Chief Operating Officer, Federal Student Aid.

For the reasons discussed in the preamble, the Chief Operating Officer, Federal Student Aid (FSA), U.S. Department of Education (Department), publishes a notice of a modified system of records to read as follows:

SYSTEM NAME AND NUMBER:

Common Services for Borrowers (CSB) (18-11-16).

SECURITY CLASSIFICATION:

Unclassified.

SYSTEM LOCATION:

(1) U.S. Department of Education,

Executive Director, Servicing, Student Experience and Aid Delivery, Federal Student Aid, U.S. Department of Education, 1300 Market St., 5th floor, Philadelphia, PA 19107 (System Manager);

50 Beale St., San Francisco, CA 94105;

500 West Madison St., Chicago, IL 60661; and

61 Forsyth St., Atlanta, GA 30303.

(2) Maximus Federal Services, Inc. (Contractor—Federal Loan Servicer for Collections—Debt Management Collection System (DMCS)):

5202 Presidents Ct., Frederick, MD 21703 (Department contractor—DMCS Program Management and Help Desk;

Amazon Web Services Government Cloud, US East,;

410 Terry Ave. North, Seattle, WA 98109-5210 (System Hosting);

Mail Fulfillment and Imaging Centers: 800 Commerce Dr., Upper Marlboro, MD 20774; and 6201 Interstate 30, Greenville, TX 75402; and

Contact Centers: 1 Imeson Park Blvd., Suite 300, Jacksonville, FL 32218; and 4335 Paredes Line Rd. Brownsville, TX 78526.

(3) Nelnet Servicing, LLC (Contractor—Federal Loan Servicer),

1001 Fort Crook Rd. North, Suite 132, Bellevue, NE 68005 (System Hosting);

700 East 54th St. North, Suite 200, Sioux Falls, SD 57104 (System Hosting Backup site);

Mail Fulfillment: 1720 Northway Dr., North Mankato, MN 56003; 3125 Lewis Centre Way, Grove City, OH 43123; 3885 Seaport Blvd., Suite 40, West Sacramento, CA 95691; and 1803 Rocky River Rd., North Monroe, NC 28110;

Imaging Centers: 121 South 13th St., Lincoln, NE 68508 and 2401 and 2501 International Lane, Madison, WI 53704; and

Contact Centers: 308 Second St., Boscobel, WI 53805; 3381 Ruben M. Torres Blvd., Brownsville, TX 78526; 3620 23rd St., Columbus, NE 68601; 1529 Continental Dr., Eau Claire, WI 54701; 401 S. 21st St., Lincoln, NE 68510; 2401 and 2501 International Lane, Madison, WI 53704; 14400 Branch St. Omaha, NE 68010; 1205 Jackson St. Suite 300, Sidney, NE 69162; and 1101 Centerpoint Drive, Stevens Point, WI 54481;

(4) Great Lakes Educational Loan Services, Inc. (GLCS) (Contractor—Federal Loan Servicer):

2401 and 2501 International Lane, Madison, WI 53704; and 1529 Continental Dr., Eau Claire, WI 54701; (System Hosting and System Hosting Backup site);

Mail Fulfillment and Imaging Centers: 2401 and 2501 International Lane, Madison, WI 53704; and 1529 Continental Dr., Eau Claire, WI 54701; and

Contact Centers: 930 Blue Gentian Rd., Eagan, MN 55121; 2401 and 2501 International Lane, Madison, WI 53704; 1529 Continental Dr., Eau Claire, WI 54701; 308 2nd St., Boscobel, WI 53805; and 1101 Center Point Dr., Stevens Point, WI 54481.

(5) Aidvantage (Contractor—Federal Loan Servicer):

Chandler Data Center, 240 North Roosevelt Ave., Chandler, AZ 48226 (System Hosting);

Omaha Data Center, 7305 Pacific St., Omaha, NE 68106 (System Hosting Backup site);

Mail Fulfillment and Imaging Centers: 3885 Seaport Blvd., Suite 40, West Sacramento, CA 95691; 1803 North Rocky River Rd., Monroe, NC 28110; and 6201 Interstate 30, Greenville, TX 75402; and

Contact Center(s): A fully remote contact center model is employed. Customer Service Representatives manage customer calls in a distributed environment utilizing secure internet connections and using centrally managed technology.

(6) Missouri Higher Education Loan Assistance Authority (MOHELA) (Contractor—Not-for-Profit (NFP) Federal Loan Servicer):

633 Spirit Dr., Chesterfield, MO 63005 (System Hosting);

555 Vandiver Dr., Columbia, MO 65202 (System Hosting Backup site);

820 First Street, NE, Suite L-120, Washington, DC 20002 (Main Office);

Mail Fulfillment and Imaging Centers: 633 Spirit Dr., Chesterfield, MO 63005; and 555 Vandiver Dr., Columbia, MO 65202; and

Contact Centers: 633 Spirit Dr., Chesterfield, MO 63005; 555 Vandiver Dr., Columbia, MO 65202; and 820 First St. NE, Suite L-120, Washington, DC 20002.

(7) Oklahoma Student Loan Authority (NFPOSLA) (Contractor—NFP Federal Loan Servicer):

525 Central Park Dr., Ste. 600, Oklahoma City, OK 73105 (System Hosting); 7499 East Paradise Lane, Scottsdale, AZ 85260 (System Hosting Backup site);

1001 Fort Crook Road. North, Suite 132, Bellevue NE. 68005-4247 (System Hosting Backup site);

700 East 54th St. North, Suite 200, Sioux Falls, SD 57104 (System Hosting Backup site);

Mail Fulfillment and Imaging Center: 525 Central Park Dr., Ste. 600, Oklahoma City, OK 73105; and

Call Center: 525 Central Park Dr., Ste. 600, Oklahoma City, OK 73105.

EdFinancial (Contractor—NFP Federal Loan Servicer):

1001 Fort Crook Rd., Suite 132, North Bellevue, NE 68005-4247 (Nelnet System Hosting);

700 East 54th St. North, Suite 200, Sioux Falls, SD 57104 (Nelnet System Hosting Backup);

7301 Pacific Street, Omaha, NE 68114 (FISERV System Hosting—FISERV Solutions Primary Data Center); and

240 North Roosevelt Avenue, Chandler, AZ 85226 (FISERV System Hosting Backup);

Mail Fulfillment and Imaging Centers: 13271 North Promenade Blvd., Stafford, TX 77477-3957; 3885 Seaport Blvd., Suite 40, West Sacramento, CA 95691; and 1803 Rocky River Rd., North Monroe, NC 29110 (Mail Fulfillment and Imaging Backup site); and

Contact Centers: 120 North Seven Oaks Dr., Knoxville, TN 37922; 298 North Seven Oaks Dr., Knoxville, TN 37922; 2741 Gunter Park Dr., Montgomery, AL 36109; and 4 Barrell Court, Concord, NH 03301;

(8) Educational Computer Systems, Inc. (ECSI) (Contractor—Federal Perkins Loan Servicer):

1033 Jefferson St. NW, Atlanta, GA 30318 (System Hosting);

Mail Fulfillment and Imaging Center: 100 Global View Dr., Warrendale, PA 15086; and

Contact Centers: 1200 Cherrington Parkway, Suite 200,Moon Township, PA 15108; and 3330 Healy Dr., Winston-Salem, NC 27103.

(9) Action Financial Services (Contractor—Private Collection Agency):

2055 Cardinal Ave., Medford, OR 97504 (Call Center, Administrative Support, Compliance, Training and Human Resources).

(10) Bass & Associates, P.C. (Contractor—Private Collection Agency):

3926 E Fort Lowell Rd., Tucson, AZ 85712-1083 (Administration and Student Loan Collections).

(11) Central Research, Inc. (CRI) (Contractor—Private Collection Agency):

122 N Bloomington St., Suite I, Lowell, AR 72745 (Accounting/Corporate Administration).

(12) Coast Professional, Inc. (Contractor—Private Collection Agency):

4273 Volunteer Rd., Geneseo, NY 14454 (Student Loan Servicing & Collecting).

(13) Credit Adjustments, Inc. (CAI) (Contractor—Private Collection Agency):

1270 Geneva Blvd. Defiance, OH 43512 (Collection Activity, Administrative Offices).

(14) F.H. Cann & Associates, Inc. (Contractor—Private Collection Agency):

1600 Osgood St., Suite 2-120, North Andover, MA 01845 (Collection Activity, Administrative Office).

(15) Immediate Credit Recovery (ICR) (Contractor—Private Collection Agency):

6 Neptune Rd., Suite 110, Poughkeepsie, NY 12601 (Call Center, Rehab Payer Service and Maintenance, Compliance, IT Staff, HR, Accounting, CEO, CIO, VP admin and other executive staff).

(16) National Credit Services (Contractor—Private Collection Agency):

2525 220th St. SE, Suite 200, Bothell, WA 98021 (Debt Collection, Rehabilitations, Skip Tracing, QA, Compliance, HR and Administrative Wage Garnishment (AWG)).

(17) National Recoveries Inc. (Contractor—Private Collection Agency):

14735 Hwy. 65, NE, Ham Lake, MN 55304 (Collections, Invoice Processing, IT).

(18) Professional Bureau of Collections of Maryland, Inc. (Contractor—Private Collection Agency):

5295 DTC Parkway, Greenwood Village, CO 80111 (Executive, Administrative, Accounting, Collections, IT and Compliance).

(19) Reliant Capital Solutions (Contractor—Private Collection Agency):

670 Cross Pointe Rd., Gahanna, OH 43230 (Front Line Agents and Administrative Office).

SYSTEM MANAGER(S):

Executive Director, Servicing, Student Experience and Aid Delivery, Federal Student Aid, U.S. Department of Education, 1300 Market St., 5th floor, Philadelphia, PA 19107.

AUTHORITY FOR MAINTENANCE OF THE SYSTEM:

Titles IV-A, IV-B, IV-D, and IV-E of the Higher Education Act (HEA) of 1965, as amended (20 U.S.C. 1070 et seq.) and the Higher Education Relief Opportunities for Students Act of 2003 (20 U.S.C. 1098bb) (including any waivers or modifications that the Secretary of Education deems necessary to make to any statutory or regulatory provision applicable to the student financial assistance programs under title IV of the HEA to achieve specific purposes listed in the section in connection with a war, other military operation, or a national emergency).

PURPOSE(S) OF THE SYSTEM:

Note: Different parts of the HEA use the terms “discharge,” “cancellation,” or “forgiveness” to describe when a borrower's loan amount is reduced in whole or in part by the Department. To reduce complexity, this system of records notice uses the term “discharge” to include all three terms (“discharge,” “cancellation,” and “forgiveness”), including but not limited to discharges of student loans made pursuant to specific benefit programs. At times, this system of records notice may refer by name to a specific benefit program, such as the “Public Service Loan Forgiveness” program; such specific references are not intended to exclude any such program benefits from more general references to loan discharges.

The information maintained in this system of records is used for the following purposes:

(1) To verify the identity of an individual;

(2) To determine program eligibility and benefits;

(3) To facilitate default reduction efforts by program participants;

(4) To enforce the conditions or terms of a title IV, HEA obligation;

(5) To originate, disburse, service, collect, assign, adjust, transfer, refer, furnish credit information for, and discharge a title IV, HEA obligation;

(6) To provide customers with information to help them make informed decisions on repayment options, including forbearance, deferment, and recurring debit options, based on their unique situations;

(7) To investigate possible fraud or abuse or verify compliance with program regulations or contract requirements;

(8) To locate a delinquent or defaulted individual obligated to repay a title IV, HEA obligation;

(9) To litigate a title IV, HEA obligation, or to prepare for, provide support services for, or audit the results of litigation on a title IV, HEA obligation;

(10) To prepare for, conduct, or enforce a limitation, suspension, termination, or debarment action;

(11) To verify that Federal, state, local, and Tribal statutory, regulatory, and program requirements are met by educational and financial institutions, guaranty agencies, and Department contractors including Federal Loan Servicers, NFP Federal Loan Servicers, the Federal Perkins Loan Servicer, and Private Collection Agencies (PCAs);

(12) To verify whether a title IV, HEA obligation qualifies for discharge;

(13) To conduct credit checks or respond to inquiries or disputes arising from information on a title IV, HEA obligation already furnished to a consumer reporting agency;

(14) To investigate, respond to, or resolve complaints submitted to the Department or to other Federal, State, local, or Tribal agencies regarding an aid applicant's or recipient's title IV, HEA program eligibility, the disbursement, or servicing of a title IV, HEA obligation, or the practices or processes of the Department and/or the Department's contractors;

(15) To determine credit balances to be refunded by the U.S. Department of the Treasury (Treasury) to the individual or loan holder;

(16) To allow educational institutions, financial institutions, Federal Loan Servicers, NFP Federal Loan Servicers the Federal Perkins Loan Servicer, PCAs, and guaranty agencies to report information to the Department on all aspects of title IV, HEA obligations in uniform formats to permit the Department to directly compare data submitted to the Department by individual educational institutions, financial institutions, third-party servicers, guaranty agencies, Federal Loan Servicers, NFP Federal Loan Servicers the Federal Perkins Loan Servicer, or PCAs;

(17) To report to the Internal Revenue Service (IRS) information required by law to be reported, including, but not limited to, reports required by 26 U.S.C. 6050P and 6050S;

(18) To support research, analysis, and development of educational policies in relation to title IV, HEA student financial aid programs;

(19) To support Federal budget analysts in the Department, the Office of Management and Budget (OMB), and the Congressional Budget Office (CBO) in the development of budget needs and forecasts;

(20) To help governmental entities at the Federal, State, Tribal, and local levels to exercise their supervisory and administrative powers (including, but not limited to licensure, examination, discipline, regulation, or oversight of educational institutions, Department contractors, guaranty agencies, eligible lenders, and third-party servicers); to investigate, respond to, or resolve complaints regarding the practices or processes of the Department and/or the Department's contractors; and to update information or correct errors contained in Department records;

(21) To ensure that only authorized users access aid applicants' or recipients' records, to maintain a history of each instance in which the aid applicant's or recipient's records are viewed or updated, and to assist the Department in responding to a suspected or confirmed breach of this system or in preventing, minimizing, or remedying harm when the Department suspects or confirms that this system has been breached or when the Department determines that information from this system is reasonably necessary to assist another agency or entity in responding to a suspected or confirmed breach or in preventing, minimizing, or remedying the risk of harm resulting from a suspected or confirmed breach;

(22) To support the Department in detecting, preventing, mitigating, and recouping improper payments in title IV, HEA programs;

(23) To conduct testing, analysis, or take other administrative actions needed to prepare for or execute programs under title IV of the HEA; and

(24) To identify whether an aid recipient or application participant who is applying for an income-driven repayment (IDR) plan or recertifying an IDR plan has provided consent/affirmative approval to redisclose Federal Tax Information (FTI) of such individuals pursuant to clause (iv) of section 6103(l)(13)(D) of the Internal Revenue Code (IRC) of 1986 and for the disclosure of records by the Department to the IRS to obtain FTI and for the IRS to disclose FTI to the Department as referenced in Section 494(a) of the HEA (20 U.S.C. 1098h(a)) for the purpose of determining repayment obligation monthly amounts for an IDR plan under title IV of the HEA with respect to loans made under part D of title IV of the HEA (Direct Loan Program).

CATEGORIES OF INDIVIDUALS COVERED BY THE SYSTEM:

The CSB system contains records on individuals who received a loan or who otherwise owe a title IV, HEA obligation held, originated, serviced, disbursed, adjusted, collected, or discharged by the Department, which was made under:

(1) The Federal Family Education Loan (FFEL) Program, including Stafford Loans, Federal Insured Student Loans (FISL), Supplemental Loans for Students (SLS), PLUS Loans (formerly Parental Loans for Undergraduate Students), and Consolidation Loans;

(2) the William D. Ford Federal Direct Loan (Direct Loan) Program, including Federal Direct Unsubsidized and Subsidized Stafford/Ford Loans, Federal Direct Consolidation Loans, and Federal Direct PLUS Loans;

(3) the Federal Perkins Loan Program;

(4) the Federal Pell Grant Program;

(5) the Federal Supplemental Education Opportunity Grant (FSEOG) Program;

(6) the Leveraging Educational Assistance Partnership (LEAP) Program;

(7) the Special Leveraging Educational Assistance Partnership (SLEAP) Program;

(8) the Academic Competitiveness Grant (ACG) Program;

(9) the National Science and Mathematics Access to Retain Talent (SMART) Grant Program;

(10) the Teacher Education Assistance for College and Higher Education (TEACH) Grant Program; and

(11) the Iraq and Afghanistan Service Grant Program.

This system also contains records on individuals who apply for, but do not receive, a Direct Loan, as well as individuals identified by the borrower or recipient of the Federal title IV, HEA program funds as references, co-signers, endorsers, or a spouse whose income and expenses are considered in connection with the making or the enforcement of a title IV, HEA obligation.

CATEGORIES OF RECORDS IN THE SYSTEM:

Note: Beginning with the 2024-2025 award year application cycle, the IRS will disclose FTI directly to the Department for use by the Department in processing the Free Application for Federal Student Aid (FAFSA®) and making aid eligibility determinations under a program authorized under subpart 1 of part A, part C, or part D of title IV of the HEA. FTI will not be maintained in this system. Beginning July 30, 2023, the IRS will also disclose FTI directly to the Department for use by the Department to determine monthly payment amounts under IDR plans with respect to Direct Loans. That FTI also will not be maintained in this system. All FTI that the Department will obtain directly from the IRS under the Fostering Undergraduate Talent by Unlocking Resources for Education (FUTURE) Act will be maintained within the FTI Module (FTIM) system that will be compliant with the IRS Publication 1075, “Tax Information Security Guidelines for Federal, State and Local Agencies, Safeguards for Protecting Federal Tax Returns and Return Information,” and that will be covered under the Department's system of records notice entitled “FUTURE Act System (FAS)” (18-11-23). This system will continue to maintain both historical and applicant-provided income information (either through a manual FAFSA entry or submission of alternative documentation of income (ADOI) through the IDR process). Any reference to income throughout this system of records notice refers to income information that the Department did not obtain directly from the IRS but obtained from the applicant or from another source.

This system of records covers the following Information Technology (IT) systems of the Department used to carry out activities with regard to title IV, HEA obligations held, originated, serviced, disbursed, collected, or discharged by the Department: DMCS, IT systems operated by the Federal Loan Servicers and NFP Federal Loan Servicers to accomplish the purpose(s) of this system of records, IT systems operated by the Federal Perkins Loan Program Servicer to accomplish the purpose(s) of this system of records, and IT systems operated by the PCAs to accomplish the purpose(s) of this system of records. This system of records also covers paper records obtained by the Department from guaranty agencies in the process of considering appeals by title IV, HEA loan borrowers of guaranty agency decisions.

This system of records maintains the employment information, educational status, family income, Social Security number (SSN), address(es), email address(es), monthly payment amounts, ADOI, and telephone number(s) of the aid applicant or recipient indebted on a title IV, HEA obligation or the individuals whose income and expenses are included in a financial statement submitted by the aid applicant or recipient. This system also maintains the consent/affirmative approval to include permitting the Department to disclose records to the IRS to obtain FTI and to permit the disclosure and redisclosure of the FTI of the applicant or recipient. This system of records maintains the loan discharge income, eligibility information, and associated discharge eligibility consent information of the aid recipient indebted on a title IV, HEA obligation. This system also maintains records including, but not limited to, the application for, agreement to repay, and disbursements on the loan, and loan guaranty, if any; the repayment history, including deferments and forbearances; claims by lenders on the loan guaranty; and records related to discharge of title IV, HEA obligations on grounds of qualifying service, bankruptcy discharge, Total and Permanent Disability (including medical records submitted to support an application for discharge by reason of disability), death, Public Service Loan Forgiveness (PSLF) (including, but not limited to, employment records), Borrower Defense (including but not limited to, case decisions, principal and interest discharged, amount refunded, and borrower defense notifications) or other statutory or regulatory grounds for relief.

Additionally, for title IV, HEA grant overpayments, the system contains records about the amount disbursed, the school that disbursed the grant, and the basis for overpayment; for all title IV, HEA obligations, the system contains demographic, employment, and other data on the individual who owes a title IV, HEA obligation or provided as references by the obligor, and the collection actions taken by any holder, including write-off amounts and compromise amounts.

This system also contains information obtained from matching programs or other information exchanges with other Federal and State agencies, and other entities, to assist in identifying individuals who may be eligible for benefits related to their title IV, HEA obligations, including, but not limited to, TPD discharges, loan deferments, interest rate reductions, PSLF, and other Federal and State loan repayment or discharge benefits or for the purpose of recouping payments on delinquent title IV, HEA obligations under title IV, HEA programs.

RECORD SOURCE CATEGORIES:

The system includes information that the Department obtains from applicants and those individuals and their families who received, or who are otherwise obligated to repay, a title IV, HEA obligation held and collected by the Department. The Department also obtains information from Federal Loan Servicers, NFP Federal Loan Servicers, the Federal Perkins Loan Servicer, PCAs, references, cosigners, endorsers, current or prior FFEL loan holders or servicers, guaranty agencies, educational and financial institutions and their authorized representatives, and Federal, State, Tribal and local agencies and their authorized representatives; private parties, such as relatives and business and personal associates; present and former employers; creditors; consumer reporting agencies; and adjudicative bodies. Information in this system may be obtained from other persons or entities from whom or from which data is obtained following a disclosure under the listed routine uses.

Information is also obtained from other Department systems including the Common Origination and Disbursement (COD) system (covered by the Department's system of records notice entitled “Common Origination and Disbursement (COD) System” (18-11-02)) and the National Student Loan Data System (NSLDS) (covered by the Department's system of records notice entitled “National Student Loan Data System (NSLDS)” (18-11-06)) or any successor systems thereto.

ROUTINE USES OF RECORDS MAINTAINED IN THE SYSTEM, INCLUDING CATEGORIES OF USERS AND PURPOSES OF SUCH USES:

The Department may disclose information contained in a record in this system of records under the routine uses listed in this system of records without the consent of the individual if the disclosure is compatible with the purposes for which the information in the record was collected. These disclosures may be made on a case-by-case basis, or, if the Department has complied with the computer matching requirements of the Privacy Act of 1974, as amended (Privacy Act), under a computer matching agreement.

(1) Program Disclosures. The Department may disclose records for the following program purposes:

(a) To verify the identity of the individual whom records indicate has applied for or received title IV, HEA program funds, disclosures may be made to guaranty agencies, educational and financial institutions, and their authorized representatives; to Federal, State, Tribal, or local agencies, and their authorized representatives; to private parties, such as relatives, business and personal associates, and present and former employers; to creditors; to consumer reporting agencies; to adjudicative bodies; and to the individual whom the records identify as the party obligated to repay the title IV, HEA obligation;

(b) To determine program eligibility and benefits, disclosures may be made to guaranty agencies, educational and financial institutions, and their authorized representatives; to Federal, State, or local agencies, and their authorized representatives; to private parties, such as relatives, business and personal associates, and present and former employers; to creditors; to consumer reporting agencies; and to adjudicative bodies;

(c) To facilitate default reduction efforts by program participants, disclosures may be made to guaranty agencies, educational and financial institutions, and their authorized representatives; to Federal, State, or local agencies, and their authorized representatives; to consumer reporting agencies; and to adjudicative bodies;

(d) To enforce the conditions or terms of a title IV, HEA obligation, disclosures may be made to guaranty agencies, educational and financial institutions, and their authorized representatives; to Federal, State, or local agencies, and their authorized representatives; to private parties, such as relatives, business and personal associates, and present and former employers; to creditors; to consumer reporting agencies; to adjudicative bodies; and to the individual whom the records identify as the party obligated to repay the title IV, HEA obligation;

(e) To permit originating, disbursing, servicing, collecting, assigning, adjusting, transferring, referring, furnishing of credit information, or discharging title IV, HEA obligations, disclosures may be made to guaranty agencies, educational institutions, or financial institutions that originated, held, serviced, or have been assigned the title IV, HEA obligation, and their authorized representatives; to a party identified by the debtor as willing to advance funds to repay the title IV, HEA obligation; to Federal, State, or local agencies, and their authorized representatives; to private parties, such as relatives, business and personal associates, and present and former employers; to creditors; to consumer reporting agencies; and to adjudicative bodies;

(f) To provide customers with information to help them make informed decisions on repayment options, including deferment, forbearance, and recurring auto debit, based on their unique situations, disclosures may be made to guaranty agencies, educational and financial institutions, and their authorized representatives; and to Federal, State, or local agencies, and their authorized representatives;

(g) To investigate possible fraud or abuse or to verify compliance with contractual requirements or Federal, State, local, or Tribal statutory, regulatory, or program requirements, disclosures may be made to guaranty agencies, educational and financial institutions, third-party servicers, and their authorized representatives; to Federal, State, Tribal, or local agencies, and their authorized representatives; to private parties, such as relatives, present and former employers, and business and personal associates; to creditors; to consumer reporting agencies; and to adjudicative bodies;

(h) To locate a delinquent or defaulted borrower, or an individual who owes a title IV, HEA obligation, disclosures may be made to guaranty agencies, educational and financial institutions, and their authorized representatives; to Federal, State, or local agencies, and their authorized representatives; to private parties, such as relatives, business and personal associates, and present and former employers; to creditors; to consumer reporting agencies; and to adjudicative bodies;

(i) To prepare a title IV, HEA obligation for litigation, to provide support services for litigation on a title IV, HEA obligation, to litigate a title IV, HEA obligation, or to audit the results of litigation on a title IV, HEA obligation, disclosures may be made to FFEL loan holders or servicers; Department contractors including but not limited to, Federal Loan Servicers, NFP Federal Loan Servicers, the Federal Perkins Servicer, PCAs and to guaranty agencies and their authorized representatives; Federal, State, Tribal, or local agencies, and their authorized representatives; and to adjudicative bodies;

(j) To prepare for, conduct, or enforce a limitation, suspension, or termination or a debarment action, disclosures may be made to guaranty agencies, educational or financial institutions, and their authorized representatives; to Federal, State, or local agencies, and their authorized representatives; and to adjudicative bodies;

(k) To verify that HEA program requirements are met by educational and financial institutions, guaranty agencies, Federal Loan Servicers, NFP Federal Loan Servicers, the Federal Perkins Loan Servicer, and PCAs, disclosures may be made to guaranty agencies, educational or financial institutions, and their authorized representatives; to accrediting agencies; to auditors engaged to conduct an audit of a guaranty agency or an educational or financial institution; to Federal, State, Tribal, or local agencies, and their authorized representatives; and to adjudicative bodies;

(l) To verify whether a title IV, HEA obligation qualifies for discharge, disclosures may be made to guaranty agencies, educational and financial institutions, and their authorized representatives; to Federal, State, or local agencies, and their authorized representatives; to private parties, such as relatives, present and former employers, and business and personal associates; to creditors; to consumer reporting agencies; and to adjudicative bodies;

(m) To conduct credit checks or to respond to inquiries or disputes arising from information on the title IV, HEA obligation already furnished to a consumer reporting agency, disclosures may be made to consumer reporting agencies; to guaranty agencies, educational and financial institutions, and their authorized representatives; to Federal, State, or local agencies, and their authorized representatives; to private parties, such as relatives, present and former employers, and business and personal associates; to creditors; and to adjudicative bodies;

(n) To investigate, respond to, and resolve complaints submitted to the Department or to Federal, State, local, or Tribal agencies regarding an aid applicant's or recipient's title IV, HEA program eligibility, the disbursement or servicing of a title IV, HEA obligation, or the practices or processes of the Department and/or the Department's contractors or to update information or correct errors contained in Department records, disclosures may be made to guaranty agencies, educational and financial institutions, and their authorized representatives; to Federal, State, Tribal, or local agencies, and their authorized representatives; to private parties, such as relatives, present and former employers, and business and personal associates; to creditors; to consumer reporting agencies; and to adjudicative bodies;

(o) To provide credit balances identified in the Department's systems to Treasury for distribution, disclosures may be made to guaranty agencies, educational and financial institutions, and their authorized representatives; to Federal, State, or local agencies, and their authorized representatives; to private parties, such as relatives, present and former employers, and business and personal associates; and to creditors;

(p) To allow the reporting of information to the Department on all aspects of title IV, HEA obligations in uniform formats and to permit the Department to directly compare data submitted to the Department by individual educational institutions, financial institutions, third-party servicers, guaranty agencies, Federal Loan Servicers, NFP Federal Loan Servicers, PCAs, and the Federal Perkins Loan Servicer, disclosures may be made to educational institutions, financial institutions, guaranty agencies, Federal Loan Servicers, the Federal Perkins Loan Servicer, NFP Federal Loan Servicers, and PCAs;

(q) To report information required by law to be reported, including, but not limited to, reports required by 26 U.S.C. 6050P and 6050S, disclosures may be made to the IRS; and

(r) To help Federal, State, Tribal, and local governmental entities exercise their supervisory and administrative powers (including, but not limited to, licensure, examination, discipline, regulation, or oversight of educational institutions, Department contractors, guaranty agencies, eligible lenders, and third-party servicers) or to investigate, respond to, or resolve complaints submitted regarding the practices or processes of the Department and/or the Department's contractors, the Department may disclose records to governmental entities at the Federal, State, Tribal, and local levels. These records may include all aspects of records relating to title IV, HEA obligations to permit these governmental entities to verify compliance with debt collection, consumer protection, financial, and other applicable statutory, regulatory, or local requirements. Before making a disclosure to these Federal, State, local, or Tribal governmental entities, the Department will require them to maintain safeguards consistent with the Privacy Act to protect the security and confidentiality of the disclosed records.

(2) Feasibility Study Disclosure. The Department may disclose information from this system of records to other Federal agencies, and to guaranty agencies and to their authorized representatives, to determine whether matching programs should be conducted by the Department for purposes such as to locate a delinquent or defaulted debtor or to verify compliance with program regulations.

(3) Enforcement Disclosure. In the event that information in this system of records indicates, either alone or in connection with other information, a violation or potential violation of any applicable statutory, regulatory, or legally binding requirement, the Department may disclose the relevant records to an entity charged with the responsibility for investigating or enforcing those violations or potential violations.

(4) Litigation and Alternative Dispute Resolution (ADR) Disclosure.

(a) Introduction. In the event that one of the parties listed below is involved in judicial or administrative litigation or ADR, or has an interest in such litigation or ADR, the Department may disclose certain records to the parties described in paragraphs (b), (c), and (d) of this routine use under the conditions specified in those paragraphs:

(i) The Department or any of its components;

(ii) Any Department employee in his or her official capacity;

(iii) Any Department employee in his or her individual capacity where the Department of Justice (DOJ) has been requested to or agrees to provide or arrange for representation for the employee;

(iv) Any Department employee in his or her individual capacity where the Department has agreed to represent the employee; and

(v) The United States, where the Department determines that the litigation is likely to affect the Department or any of its components.

(b) Disclosure to the DOJ. If the Department determines that disclosure of certain records to the DOJ is relevant and necessary to the judicial or administrative litigation or ADR, the Department may disclose those records as a routine use to the DOJ.

(c) Adjudicative Disclosure. If the Department determines that disclosure of certain records to an adjudicative body before which the Department is authorized to appear or to an individual or an entity designated by the Department or otherwise empowered to resolve or mediate disputes is relevant and necessary to the judicial or administrative litigation or ADR, the Department may disclose those records as a routine use to the adjudicative body, individual, or entity.

(d) Parties, Counsel, Representatives, and Witnesses. If the Department determines that disclosure of certain records to a party, counsel, representative, or witness is relevant and necessary to the judicial or administrative litigation or ADR, the Department may disclose those records as a routine use to the party, counsel, representative, or witness.

(5) Employment, Benefit, and Contracting Disclosure.

(a) For Decisions by the Department. The Department may disclose a record to a Federal, State, or local agency maintaining civil, criminal, or other relevant enforcement or other pertinent records, or to another public authority or professional organization, if necessary to obtain information relevant to a Department decision concerning the hiring or retention of an employee or other personnel action, the issuance of a security clearance, the letting of a contract, or the issuance of a license, grant, or other benefit.

(b) For Decisions by Other Public Agencies or their Agents and Contractors, and Professional Organizations or the Department's Contractors. The Department may disclose a records to a Federal, State, local, or other public authority or an agent or contractor of such public agency, or professional organization, or the Department's contractors in connection with the hiring or retention of an employee or other personnel action, the issuance of a security clearance, the reporting of an investigation of an employee, the letting of a contract, or the issuance of a license, grant, or other benefit, to the extent that the record is relevant and necessary to the receiving entity's decision on the matter.

(6) Employee Grievance, Complaint, or Conduct Disclosure. If a record is relevant and necessary to an employee grievance, complaint, or disciplinary action, the Department may disclose the record in this system of records in the course of investigation, fact-finding, or adjudication to any witness, designated factfinder, mediator, or other person designated to resolve issues or decide the matter.

(7) Labor Organization Disclosure. The Department may disclose a record from this system of records to an arbitrator to resolve disputes under a negotiated grievance procedure or to officials of a labor organization recognized under 5 U.S.C. chapter 71 when relevant and necessary to their duties of exclusive representation.

(8) Freedom of Information Act (FOIA) and Privacy Act Advice Disclosure. The Department may disclose records to the DOJ or to OMB if the Department determines that disclosure is desirable or necessary in determining whether particular records are required to be disclosed under the FOIA or the Privacy Act.

(9) Disclosure to the DOJ. The Department may disclose records to the DOJ, or the authorized representative of DOJ, to the extent necessary for obtaining DOJ advice on any matter relevant to an audit, inspection, or other inquiry related to the programs covered by this system.

(10) Contracting Disclosure. If the Department contracts with an entity for the purposes of performing any function that requires disclosure of records in the system to the employees of the contractor, the Department may disclose the records to those employees. As part of such a contract, the Department shall require the contractor to agree to maintain Privacy Act safeguards as required under 5 U.S.C. 552a(m) of the Privacy Act with respect to the records in the system.

(11) Research Disclosure. The Department may disclose records to a researcher if the Department determines that the individual or organization to which the disclosure would be made is qualified to carry out specific research related to functions or purposes of this system of records. The Department may disclose records from this system of records to that researcher solely for the purpose of carrying out that research related to the functions or purposes of this system of records. The researcher shall be required to agree to establish and maintain safeguards to protect the security and confidentiality of the disclosed records.

(12) Congressional Member Disclosure. The Department may disclose the records of an individual to a member of Congress or the member's staff when necessary to respond to an inquiry from the member made at the written request of that individual and on behalf of that individual. The member's right to the information is no greater than the right of the individual who requested it.

(13) Disclosure to OMB or CBO for Credit Reform Act (CRA) Support. The Department may disclose records to OMB or CBO as necessary to fulfill CRA requirements in accordance with 2 U.S.C. 661b.

(14) Disclosure in the Course of Responding to a Breach of Data. The Department may disclose records from this system of records to appropriate agencies, entities, and persons when (a) the Department suspects or has confirmed that there has been a breach of the system of records; (b) the Department has determined that as a result of the suspected or confirmed breach there is a risk of harm to individuals, the Department (including its information systems, programs and operations), the Federal government, or national security; and (c) the disclosure made to such agencies, entities, and persons is reasonably necessary to assist in connection with the Department's efforts to respond to the suspected or confirmed breach and prevent, minimize, or remedy such harm.

(15) Disclosure in Assisting Another Agency in Responding to a Breach of Data. The Department may disclose records from this system to another Federal agency or Federal entity, when the Department determines that information from this system of records is reasonably necessary to assist the recipient agency or entity in (a) responding to a suspected or confirmed breach or (b) preventing, minimizing, or remedying the risk of harm to individuals, the recipient agency or entity (including its information systems, programs, and operations), the Federal Government, or national security, resulting from a suspected or confirmed breach.

(16) Disclosure to Third Parties Through Matching Programs. Unless otherwise prohibited by other laws, any information from this system of records, including personal information obtained from other agencies through matching programs, may be disclosed to any third party through a matching program, which is conducted under a Computer Matching Agreement between the Department and the third party, and requires that the matching be conducted in compliance with the requirements of the Privacy Act. Purposes of these disclosures may be: (a) To establish or verify program eligibility and benefits; (b) to establish or verify compliance with program regulations or statutory requirements, such as to investigate possible fraud or abuse; and (c) to recoup payments or delinquent debts under any Federal benefit programs, such as to locate or take legal action against a delinquent or defaulted debtor.

(17) Disclosure of Information to Treasury. The Department may disclose records to (a) a Federal or State agency, its employees, agents (including contractors of its agents), or contractors, or (b) a fiscal or financial agent designated by the Treasury, including employees, agents, or contractors of such agent, for the purpose of identifying, preventing, or recouping improper payments to an applicant for, or recipient of, Federal funds, including funds disbursed by a State in a State-administered, Federally funded program.

(18) Disclosure to National Archives and Records Administration (NARA). The Department may disclose records from this system of records to NARA for the purpose of records management inspections conducted under authority of 44 U.S.C. 2904 and 2906.

DISCLOSURE TO CONSUMER REPORTING AGENCIES:

Disclosure pursuant to 5 U.S.C. 552a(b)(12): The Department may disclose to a consumer reporting agency information regarding a valid overdue claim of the Department; such information is limited to:

(1) The name, address, taxpayer identification number, and other information necessary to establish the identity of the individual responsible for the claim;

(2) the amount, status, and history of the claim; and

(3) the program under which the claim arose. The Department may disclose the information specified in this paragraph under 5 U.S.C. 552a(b)(12) and the procedures contained in 31 U.S.C. 3711(e). A consumer reporting agency to which these disclosures may be made is defined in 15 U.S.C. 1681a(f) and 31 U.S.C. 3701(a)(3).

POLICIES AND PRACTICES FOR STORAGE OF RECORDS:

The records are maintained in hardcopy, microfilm, magnetic storage, and optical storage media, such as tape, disk, etc.

POLICIES AND PRACTICES FOR RETRIEVAL OF RECORDS:

Records in this system pertaining to a title IV, HEA loan borrower or grant recipient are retrieved by one or more of the following data elements: the SSN, name, address, randomly generated number, debt number, phone number, debt type reference, debt type extension debt number, commercial name, commercial contact name, legacy ID, driver's license number, American Bankers Association (ABA) routing number, bankruptcy docket number, debt placement date, debt user defined page (UDP), email address, last worked date, payment additional extension reference ID, payment extension reference ID, tag short name, total balance, credit bureau legacy ID, debt type group short name, debt type short name, department name, institution account number, judgment docket number, license-issuing State, next scheduled payment amount, next scheduled payment date, office name, original debt type name, PCA group short name, and PCA short name.

POLICIES AND PRACTICES FOR RETENTION AND DISPOSAL OF RECORDS:

All records are retained and disposed of in accordance with ED Records Schedule 075: FSA Loan Servicing, Consolidation, and Collections Records (N1-441-09-016) (ED 075). The Department has submitted amendments to ED 075 for NARA's consideration and will continue to preserve all records covered by ED 075 until the amendments are approved.

ADMINISTRATIVE, TECHNICAL, AND PHYSICAL SAFEGUARDS:

All physical access to the Department's site, and to the sites of the Federal Loan Servicers, the Federal Perkins Loan Servicer, PCAs, and other contractors listed in this notice, where this system of records is maintained, is controlled and monitored by security personnel who check each individual entering the building for his or her employee or visitor badge.

In accordance with the Department's Administrative Communications System Directive ACSD-OFO-013 entitled “Contractor Employee Personnel Security Screenings,” all contract personnel who have facility access and system access are required to undergo a security clearance investigation. Individuals requiring access to Privacy Act records are required to hold, at a minimum, a moderate-risk security clearance level. These individuals are required to undergo periodic screening at five-year intervals.

In addition to conducting security clearances, contract and Department employees are required to complete security awareness training on an annual basis. Annual security awareness training is required to ensure that contract and Department users are appropriately trained in safeguarding Privacy Act records.

The computer system employed by the Department offers a high degree of resistance to tampering and circumvention. This security system limits data access to Department and contract staff on a “need-to-know” basis and controls individual users' ability to access and alter records within the system. All users of this system of records are given a unique user identification and password. The Department's Information Technology (IT) Identification and Authentication (IA) Standard requires the enforcement of a complex password policy. In addition to the enforcement of a complex password policy, users are required to change their password at least every 90 days or based on the Zero Trust Strategy/Plan in accordance with the Department's IT IA standards.

In accordance with the Federal Information Security Management Act of 2002 (FISMA), as amended by the Federal Information Security Modernization Act of 2014, every Department system must receive a signed Authorization to Operate (ATO) from a designated Department official. The ATO process includes a rigorous assessment of security and privacy controls, a plan of actions and milestones to remediate any identified deficiencies, and a continuous monitoring program.

FISMA controls implemented comprise a combination of management, operational, and technical controls, and include the following control families: access control, awareness and training, audit and accountability, assessment, authorization, and monitoring, configuration management, contingency planning, identification and authentication, incident response, maintenance, media protection, physical and environmental protection, planning, program management, personnel security, personally identifiable information processing and transparency, risk assessment, system and services acquisition, system and communications protection, system and information integrity, and supply chain risk management.

All of the Federal Loan Servicers, NFP Federal Loan Servicers, the Federal Perkins Loan Servicer, PCAs, and other contractors, as listed in “SYSTEM LOCATION,” undergo FISMA security authorizations. In addition, access is monitored 24 hours per day, 7 days a week.

RECORD ACCESS PROCEDURES:

If you wish to gain access to a record in this system, provide the system manager with your name, date of birth, and SSN. Requests by an individual for access to a record must meet the requirements of the regulations in 34 CFR 5b.5, including proof of identity.

CONTESTING RECORD PROCEDURE:

If you wish to contest the content of a record in this system of records, contact the system manager with your name, date of birth, and SSN; identify the specific items to be changed; and provide a written justification for the change. Requests to amend a record must meet the requirements of the regulations in 34 CFR 5b.7.

NOTIFICATION PROCEDURES:

If you wish to determine whether a record exists regarding you in this system of records, provide the system manager with your name, date of birth, and SSN. Requests must meet the requirements of the regulations in 34 CFR 5b.5 and 5b.7, including proof of identity.

EXEMPTIONS PROMULGATED FOR THE SYSTEM:

None.

HISTORY:

The system of records entitled “Common Services for Borrowers (CSB)” (18-11-16) was originally published in the Federal Register on January 23, 2006 (71 FR 3503-3507), modified on September 12, 2014 (79 FR 54685-54695) and on September 2, 2016 (81 FR 60683-60691), and last modified on September 13, 2022 (87 FR 56003-56015).

[FR Doc. 2023-15931 Filed 7-26-23; 8:45 am]

BILLING CODE 4000-01-P